DEPARTMENT OF THE TREASURY

Submission for OMB Review; Comment Request

July 31, 2000.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before September 6, 2000 to be assured of consideration.

Internal Revenue Service (IRS)

OMB Number: 1545-0087.

Form Number: IRS Forms 1040-ES, 1040-ES (NR), and 1040-ES (Espanol).

Type of Review: Revision.

Title: Estimated Tax for Individuals (1040-ES); U.S. Estimated Tax for Nonresident Alien Individuals (1040-ES (NR)); and Contribuciones Federales Estimadas Del Trabajo Por Cuenta Propia Y Sobre El Empleo de Empleados Domesticos-Puerto Rico (1040-ES (Espanol))

Description: Form 1040-ES is used by individuals (including self-employed) to make estimated tax payments if their estimated tax due is $500 or more. IRS uses the data to credit taxpayers' accounts and to determine if estimated tax has been properly computed and timely paid.

Respondents: Individuals or households.

Estimated Number of Respondents/Recordkeepers: 14,563,250.

Estimated Burden Hours Per Respondent/Recordkeeper:

| 1040-ES | 1040-ES (NR)
Recordkeeping | 52 min. | 40 min.
Learning about the law or the form | 28 min. | 19 min.
Preparing the worksheets and payment vouchers | 48 min. | 49 min.
Copying, assembling, and sending the payment voucher to the IRS | 10 min. | 10 min.

| 1040-ES (Espanol)
Mantener los récords | 7 minutos
Aprendiendo acerca de la ley | 7 minutos
Preparando las hojas de computaciones y los “Pago-Comprobantes”' | 35 minutos
Copiar, organizar y enviar los “Pago-Comprobantes” al IRS | 10 minutos

Frequency of response: Quarterly.

Estimated Total Reporting/Recordkeeping Burden: 94,589,400 hours.

OMB Number: 1545-0130.

Form Number: IRS Form 1120S, Schedule D (Form 1120S), and Schedule K-1 (Form 1120S).

Type of Review: Revision.

Title: U.S. Income Tax Return for an S Corporation (1120S); Capital Gains and Losses and Built-In Gains (Schedule D); and Shareholder's Share of Income, Credits, Deductions, etc. (Schedule K-1)

Description: Form 1120S, Schedule D (Form 1120S), and Schedule K-1 (Form 1120S) are used by an S corporation to figure its tax liability, and income and other tax-related information to pass through to its shareholders. Schedule K-1 is used to report to shareholders their share of the corporation's income, deductions, credits, etc. IRS uses the information to determine the correct tax for the S corporation and its shareholders.

Respondents: Business or other for-profit, Farms.

Estimated Number of Respondents/Recordkeepers: 1,880,000.

Estimated Burden Hours Per Respondent/Recordkeeper:

Form | Recordkeeping | Learning about the law or the form | Preparing the form | Copying, assembling, and sending the form to the IRS
1120S | 63 hr., 37min. | 22 hr., 13 min. | 40 hr., 59 min. | 4 hr., 50 min.
Schedule D (1120S) | 11 hr., 0 min. | 4 hr., 38 min. | 9 hr., 40 min. | 1 hr., 20 min.
Schedule K-1 (1120S) | 16 hr., 30 min. | 10 hr., 25 min. | 14 hr., 52 min. | 1 hr., 4 min.

Frequency of response: Annually.

Estimated Total Reporting/Recordkeeping Burden: 477,877,810 hours.

OMB Number: 1545-0938.

Form Number: IRS Form 1120-IC-DISC, Schedule K (Form 1120-IC-DISC), and Schedule P (Form 1120-IC-DISC).

Type of Review: Revision.

Title: Interest Charge Domestic International Sales Corporation Return (1120-IC-DISC); Shareholder's Statement of IC-DISC Distributions (Schedule K); and Intercompany Transfer Price or Commission (Schedule P).

Description: U.S. corporations that have elected to be an interest charge domestic international sales corporation (IC-DISC) file Form 1120-IC-DISC to report their income and deductions. The IC-DISC is not taxed, but IC-DISC shareholders are taxed on their share of IC-DISC income. IRS uses Form 1120-IC-DISC to check the IC-DISC's computation of income. Schedule K (Form 1120-IC-DISC) is used to report income to shareholders; Schedule P (Form 1120-IC-DISC) is used by the IC-DISC to report its dealings with related suppliers, etc.

Respondents: Business or other for-profit.

Estimated Number of Respondents/Recordkeepers: 1,200.

Estimated Burden Hours Per Respondent/Recordkeeper:

Form | Recordkeeping | Learning about the law or the form | Preparing the form | Copying, assembling, and sending the form to the IRS
1120-IC-DISK | 94 hr., 56 min. | 19 hr., 54 min. | 30 hr., 43 min. | 2 h4., 25 min.
Schedule K | 4 hr., 4 min. | 18 min. | 27 min. | 0 min.
Schedule P | 12 hr., 40 min. | 1 hr., 29 min. | 1 hr., 46 min. | 0 min.

Frequency of response: Annually.

Estimated Total Reporting/Recordkeeping Burden: 229,435 hours.

OMB Number: 1545-1016.

Form Number: IRS Form 8613.

Type of Review: Extension.

Title: Return of Excise Tax on Undistributed Income of Regulated Investment Companies.

Description: Form 8613 is used by regulated investment companies to compute and pay the excise tax on undistributed income imposed under 4982. IRS uses the information to verify that the correct amount of tax has been reported.

Respondents: Business or other-profit.

Estimated Number of Respondents/Recordkeepers: 1,500.

Estimated Burden Hours Per Respondent/Recordkeeper:

Recordkeeping—6 hr., 42 min.

Learning about the law or the form—2 hr., 28 min.

Preparing and sending the form to the IRS—2 hr., 42 min.

Frequency of Response: Annually.

Estimated Total Reporting/Recordkeeping Burden: 17,820 hours.

Clearance Officer: Garrick Shear, Internal Revenue Service, Room 5244, 1111 Constitution Avenue, NW, Washington, DC 20224.

OMB Reviewer: Alexander T. Hunt, (202) 395-7860, Office of Management and Budget, Room 10202, New Executive Office Building, Washington, DC 20503.

Lois K. Holland,
Departmental Reports Management Officer.

[FR Doc. 00-19878 Filed 8-4-00; 8:45 am]

BILLING CODE 4830-01-P